DEPARTMENT OF STATE

[Public Notice 6465]

International Security Advisory Board (ISAB) Meeting Notice; Closed Meeting

In accordance with section 10(a)(2) of the Federal Advisory Committee Act, 5 U.S.C. App section 10(a)(2), the Department of State announces a meeting of the International Security Advisory Board (ISAB) to take place on January 13, 2009, at the Department of State, Washington, DC.

Pursuant to section 10(d) of the Federal Advisory Committee Act, 5 U.S.C. App section 10(d), and 5 U.S.C. 552b(c)(1), it has been determined that this Board meeting will be closed to the public in the interest of national defense and foreign policy because the Board will be reviewing and discussing matters classified in accordance with Executive Order 12958. In addition, pursuant to 41 CFR 102-3.150, this meeting might be held with less than 15 days public notice for the following reason: the meeting must be held prior to January 20, 2009, and January 13, 2009, is the only available day for the officials who wish to attend the meeting.

The purpose of the ISAB is to provide the Department with a continuing source of independent advice on all aspects of arms control, disarmament, political-military affairs, and international security and related aspects of public diplomacy. The agenda for this meeting will include classified discussions related to the Board's ongoing studies on current U.S. policy and issues regarding international security, nuclear proliferation, and diplomacy.

For more information, contact Thelma Jenkins-Anthony, Deputy Executive Director of the International Security Advisory Board, Department of State, Washington, DC 20520, telephone: (202) 647-8346.

Dated: December 29, 2008.
Brandon A. Buttrick,
Executive Director, International Security Advisory Board, Department of State.

[FR Doc. E8-31337 Filed 1-2-09; 8:45 am]

BILLING CODE 4710-24-P